DEPARTMENT OF DEFENSE

Department of the Army, Corps of Engineers

Notice of Intent to Prepare a Draft Environmental Impact Statement (EIS), Initiate the Public Scoping Period and Host Public Scoping Meetings for the Great Lakes and Mississippi River Interbasin Study (“GLMRIS”); Correction, Clarification, Extension of the Public Scoping Period and Announcement of Additional Public Scoping Meeting Locations

AGENCY: Department of the Army, U.S. Army Corps of Engineers, DoD.

ACTION: Notice.

SUMMARY: Reference the Notice of Intent published in the Federal Register on Tuesday, November 16, 2010, Volume 75, number 220, pages 69983-5. This notice contains corrections and clarifications to this November 16, 2010 notice, extends the public comment period and identifies additional locations for the GLMRIS public scoping meetings. The corrections are typographical errors found in the “Scoping and Involvement” section of the November 16, 2010 notice (75 FR 69983). Among the clarifications is information related to the timeframe of on-line registration for those wanting to make an oral comment at a public meeting, as well as the benefit of registering on-line. The registration process is found in the “Scoping and Involvement” section of the November 16, 2010 notice (75 FR 69983). For convenience, the SUPPLEMENTARY INFORMATION section of the November 16, 2010 notice (75 FR 69983) has been reprinted with corrections, clarifications, and new text announcing the locations where USACE will host scoping meetings and the extension of the public scoping period.

DATES: The public scoping period to be held pursuant the National Environmental Policy Act of 1969, 42 U.S.C. 4321, et seq. (NEPA) has been extended from February 28, 2011 to March 31, 2011. The first NEPA public scoping meeting for GLMRIS is scheduled for December 15, 2010 in Chicago, Illinois. The dates of the remaining public meetings have not been finalized. Once final, these dates will be posted in a subsequent Federal Register notice. Please refer to the “Scoping and Public Involvement” section below for information regarding the public scoping meetings and instructions on how to submit public comments.

FOR FURTHER INFORMATION CONTACT: For further information and/or questions about GLMRIS, please contact USACE, Chicago District, Project Manager, Mr. David Wethington, by mail: USACE, Chicago District, 111 N. Canal, Suite 600, Chicago, IL 60606, or by e-mail: david.m.wethington@usace.army.mil.

For media inquiries, please contact the USACE, Chicago District, Public Affairs Officer, Ms. Lynne Whelan, by mail: USACE, Chicago District, 111 N. Canal, Suite 600, Chicago, IL 60606, by phone: 312.846.5330 or by e-mail: lynne.e.whelan@usace.army.mil.

SUPPLEMENTARY INFORMATION: 1. Background. An aquatic nuisance species (ANS) is a nonindigenous species that threatens the diversity or abundance of native species or the ecological stability of infested waters, or commercial, agricultural, aquacultural or recreational activities dependent on such waters. See 16 U.S.C. 4702(1) (2010).

As a result of international commerce, travel and local practices, ANS have been introduced throughout the Mississippi River and Great Lakes basins. These two basins are connected by man-made channels that, in the past, exhibited poor water quality, which was an impediment to the transfer of organisms between the basins. Now that water quality has improved, these canals allow the transfer of both indigenous and nonindigenous invasive species.

USACE, in consultation with other Federal agencies, Native American Tribes, State agencies, local governments and non-governmental organizations, is conducting this feasibility study. For GLMRIS, USACE will explore options and technologies, collectively known as ANS controls, that could be applied to prevent ANS transfer between the basins through aquatic pathways. Potential ANS controls may include, but are not limited to, hydrologic separation of the basins, waterway modifications, selective barriers, etc.

USACE will conduct a comprehensive analysis of ANS controls and will analyze the effects an ANS control or combination of ANS controls may have on current uses of: (1) The Chicago Area Waterway System (CAWS), the only known continuous aquatic pathway between the Great Lakes and Mississippi River basins; and (2) other aquatic pathways between these basins. For the CAWS, current waterway uses include, but are not limited to: Flood risk management; commercial and recreational navigation; recreation; water supply; hydropower; and conveyance of effluent from wastewater treatment plants and other industries. Additionally, this study will identify mitigation measures or alternative facilities necessary to offset and address impacted waterway uses and current significant natural resources.

GLMRIS will be conducted in accordance with NEPA and with the Economic and Environmental Principles and Guidelines for Water and Related Land Resource Implementation Studies, Water Resources Council, March 10, 1983.

2. Scoping and Public Involvement. USACE will accept comments related to GLMRIS until March 31, 2011. Note, USACE will only consider comments that disclose the first name, last name and zip code of the commenter.

All forms of comments received during the scoping period will be weighted equally. Using input obtained during the scoping period, USACE will refine the scope of GLMRIS to focus on significant issues, as well as eliminate issues that are not significant from further detailed study.

Comments may be submitted in the following ways:

• GLMRIS project Web site: Use the Web comment function found at http://glmris.anl.gov;

• NEPA Scoping Meeting: USACE is hosting scoping meetings and asks those who want to make oral comments to register on the GLMRIS project Web site at http://glmris.anl.gov. Those registering to make oral comments through the project Web site may be given a preference over those that register to make oral comments at the meeting. The on-line registration for each individual meeting will close (1) day prior to that meeting date. Each individual wishing to make oral comments shall be given three (3) minutes, and a stenographer will document oral comments;

• Mail: Mail written comments to GLMRIS Scoping, 111 N. Canal, Suite 600, Chicago, IL 60606. Comments must be postmarked by March 31, 2011; and

• Hand Delivery: Comments may be hand delivered to the Chicago District, USACE office located at 111 N. Canal St., Suite 600, Chicago, IL 60606 between 8 a.m. and 4:30 p.m. Comments must be received by March 31, 2011.

At the scoping meetings, USACE will provide informational materials about the study's authorities and USACE study process. The meetings will begin with a brief presentation regarding the study followed by an oral comment period. During the meeting, USACE will also collect written comments on comment cards and computer terminals.

The first public scoping meeting is scheduled from 12 p.m. to 7 p.m. on Wednesday, December 15, 2010 at the Gleacher Center, located at 450 North Cityfront Plaza Drive, Chicago, IL 60611. Please see the GLMRIS project Web site at http://glmris.anl.gov for more information regarding the meeting and if you wish to make an oral comment.

In addition to Chicago, Illinois, USACE will host NEPA scoping meetings in the following metropolitan areas: Buffalo, New York; Cleveland, Ohio; St. Paul, Minnesota; Green Bay, Wisconsin; Traverse City, Michigan; Cincinnati, Ohio; Ann Arbor, Michigan; St. Louis, Missouri; Vicksburg, Mississippi. Specific meeting places and dates will be announced in a subsequent Federal Register notice, the GLMRIS project Web site, electronic media and news releases. For more information on NEPA scoping and study information, please visit the GLMRIS project Web site at http://glmris.anl.gov.

Comments received during the scoping period will be posted on the GLMRIS project Web site and will become a part of the EIS. You may indicate that you do not wish to have your name or other personal information made available on the Web site. However, USACE cannot guarantee that information withheld from the Web site will be maintained as confidential. Requests for disclosure of collected information will be handled through the Freedom of Information Act. Comments and information, including the identity of the submitter, may be disclosed, reproduced, and distributed. Submissions should not include any information that the submitter seeks to preserve as confidential.

If you require assistance under the Americans with Disabilities Act, please contact Ms. Lynne Whelan via e-mail at lynne.e.whelan@usace.army.mil or phone at (312) 846-5330 at least seven (7) working days prior to the meeting to request arrangements.

3. Significant Issues. Issues associated with the proposed study are likely to include, but will not be limited to: Significant natural resources such as ecosystems and threatened and endangered species, commercial and recreational fisheries; current recreational uses of the lakes and waterways; ANS effects on water users; effects of potential ANS controls on current waterway uses such as flood risk management, commercial and recreational navigation, recreation, water supply, hydropower and conveyance of effluent from wastewater treatment plants and other industries; and statutory and legal responsibilities relative to the lakes and waterways.

4. Availability of the Draft Environmental Impact Statement. Availability of the Draft EIS is contingent upon sufficient allocation of funding for the study. Draft EIS availability will be announced to the public in the Federal Register in compliance with 40 CFR 1506.9 and 1506.10.

5. Authority. This action is being undertaken pursuant to the Water Resources and Development Act of 2007, Section 3061, Public Law 110-114, 121 STAT. 1121, and the National Environmental Policy Act of 1969, 42 U.S.C. 4321, et seq., as amended.

Dated: December 1, 2010.
Susanne J. Davis,
Chief Planning Branch, Chicago District, Corps of Engineers.

[FR Doc. 2010-30820 Filed 12-7-10; 8:45 am]

BILLING CODE 3720-58-P